DEPARTMENT OF AGRICULTURE

Food and Nutrition Service

Agency Information Collection Activities: Proposed Collection; Comment Request—Supplemental Nutrition Assistance Program—Disaster Supplemental Nutrition Assistance Program (D-SNAP)

AGENCY: Food and Nutrition Service, USDA.

ACTION: Notice.

SUMMARY: In accordance with the Paperwork Reduction Act of 1995, this notice invites the general public and other public agencies to comment on the proposed collection. This information collection is based on the Robert T. Stafford Disaster Relief and Emergency Assistance Act and Section 5(h) of the Food and Nutrition Act of 2008, which provide the Secretary of Agriculture with the authority to develop a Disaster Supplemental Nutrition Assistance Program (D-SNAP) to address the needs of families temporarily in need of food assistance after a disaster. The information collection under this notice is required for the establishment and operation of a D-SNAP.

DATES: Written comments must be received on or before June 26, 2012.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology.

Comments may be sent to Angela Kline, Chief, Certification Policy Branch, Program Development Division, Food and Nutrition Service, U.S. Department of Agriculture, 3101 Park Center Drive, Room 812, Alexandria, VA 22302. Comments may also be faxed to the attention of Ms. Kline at (703) 305-2486. The Internet address is: Angela.Kline@FNS.USDA.GOV. Comments will also be accepted through the Federal eRulemaking Portal. Go to http://www.regulations.gov and follow the online instructions for submitting comments electronically.

All written comments will be open for public inspection at the office of the FNS during regular business hours (8:30 a.m. to 5:00 p.m., Monday through Friday) at 3101 Park Center Drive, Room 800, Alexandria, Virginia 22302.

All responses to this notice will be summarized and included in the request for OMB approval. All comments will be a matter of public record.

FOR FURTHER INFORMATION CONTACT: Requests for additional information should be directed to Ms. Kline at (703) 305-2495.

SUPPLEMENTARY INFORMATION: Title: Disaster Supplemental Nutrition Assistance Program (D-SNAP) .

OMB Number: 0584-0336.

Expiration Date: 09/30/2012.

Type of Request: Extension of a previously approved collection.

Abstract: Pursuant to the Robert T. Stafford Disaster Relief and Emergency Assistance Act, Public Law 100-707, and Section 5(h) of the Food and Nutrition Act of 2008, 7 U.S.C. 2014(h), the Secretary of Agriculture has the authority to develop a Disaster Supplemental Nutrition Assistance Program (D-SNAP) to address the temporary food needs of people following a disaster. The information collected under this notice is required from State agencies in order to receive approval from the Food and Nutrition Service (FNS) to operate a D-SNAP.

The number of disasters that occur annually and the average number of households affected by the disasters cannot be predicted. During the period from calendar year 2006 through calendar year 2011, the number of State requests for disaster programs ranged from 4 to 25 requests. These included program modifications requested by some States to accommodate evacuees from disasters which did not directly affect the States themselves. The information collection under this reporting burden is limited to the burden experienced by State agencies in preparing their requests to operate D-SNAPs. The burden associated with the actual operation of D-SNAPs, including the processing of applications from households affected by disasters, is included under OMB information collection No. 0584-0064, titled ”Food Stamp Forms: Applications, Periodic Reporting, Notices” (expiration date 03/31/2013), which includes all information collection activities associated with the certification of participating and applicant households. The D-SNAP participation and issuance form FNS-292-B, Report of Disaster Supplemental Nutrition Assistance Benefit Issuance, is covered under the OMB information collection No. 0584-0037 (expiration date: 07/31/2014) and will not be reflected in this submission.

FNS estimates that approximately 10 hours of State personnel time are required to prepare D-SNAP requests. The burden associated with preparing requests to operate a D-SNAP does not vary significantly from disaster to disaster and is relatively independent of the scope of the disaster. Major disasters require little additional document preparation time than relatively minor disasters. Based on an estimate of 14 State agency requests per year to operate D-SNAPs and 10 hours of State agency personnel time to prepare each application, FNS has calculated an estimated burden of 140 hours per year in an average year. No increase in burden was estimated under this collection.

Summary of burden hours:

Affected Public: State agencies and local governments.

Estimated Number of Respondents: 14.

Estimated Number of Responses: 14.

Estimated Hours per Response: 10.

Estimated Total Annual Burden on Respondents: 140.

OMB No. 0584-0336 affected public | Estimated number of respondents | Report filed annually | Total annual responses | Estimated avg. number of man-hours per response | Estimated total man-hours
Reporting Burden:
State Agencies | 14 | 1 | 14 | 10 | 140
Total Annual Burden Estimate |  |  |  |  | 140

Dated: April 19, 2012.
Audrey Rowe,
Administrator, Food and Nutrition Service.

[FR Doc. 2012-10268 Filed 4-26-12; 8:45 am]

BILLING CODE 3410-30-P